ENVIRONMENTAL PROTECTION AGENCY

[EPA-HQ-OAR-2020-0656; FRL—9554-01-OMS]

Information Collection Request Submitted to OMB for Review and Approval; Comment Request; NSPS for Petroleum Dry Cleaners (Renewal)

AGENCY: Environmental Protection Agency (EPA).

ACTION: Notice.

SUMMARY: The Environmental Protection Agency (EPA) has submitted an information collection request (ICR), NSPS for Petroleum Dry Cleaners (EPA ICR Number 0997.13, OMB Control Number 2060-0079), to the Office of Management and Budget (OMB) for review and approval in accordance with the Paperwork Reduction Act. This is a proposed extension of the ICR, which is currently approved through April 30, 2022. Public comments were previously requested, via the Federal Register, on February 8, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before March 10, 2022.

ADDRESSES: Submit your comments, referencing Docket ID Number EPA-HQ-OAR-2020-0656, online using www.regulations.gov (our preferred method) or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at: https://www.regulations.gov, or in person, at the EPA Docket Center, WJC West Building, Room 3334, 1301 Constitution Ave. NW, Washington, DC. The telephone number for the Docket Center is 202-566-1744. For additional information about EPA's public docket, visit http://www.epa.gov/dockets.

Abstract: The New Source Performance Standards (NSPS) for Petroleum Dry Cleaners (40 CFR part 60, subpart JJJ) apply to the following existing and new facilities located at a petroleum dry cleaning plant with a total manufacturers' rated dryer capacity equal to or greater than 38 kilograms (84 pounds): Petroleum solvent dry cleaning dryers, washers, filters, stills, and settling tanks. In general, NSPS standards require initial notification reports, performance tests, and periodic reports by the owners/operators of the affected facilities. They are also required to maintain records of the occurrence and duration of any startup, shutdown, or malfunction in the operation of an affected facility, or any period during which the monitoring system is inoperative. These notifications, reports, and records are generally considered essential in determining compliance, and are required of all affected facilities subject to NSPS. For this source category, only recordkeeping and initial notifications and reports are considered essential in determining compliance with 40 CFR part 60, subpart JJJ.

Form Numbers: None.

Respondents/affected entities: Petroleum dry cleaners.

Respondent's obligation to respond: Mandatory (40 CFR part 60, subpart JJJ).

Estimated number of respondents: 1 (total).

Frequency of response: Initially.

Total estimated burden: 90 hours (per year). Burden is defined at 5 CFR 1320.3(b).

Total estimated cost: $11,000 (per year), which includes $0 in annualized capital/startup and/or operation & maintenance costs.

Changes in the Estimates: There is a decrease in the burden in this ICR in comparison to the previous ICR. This decrease is not due to any program changes. There is a decrease in the total burden hours from the most-recently approved ICR because of a decrease in the number of sources subject to these standards. This ICR incorporates more accurate estimates of existing sources based on consultations with EPA's Office of Air Quality Planning and Standards and a review of affected facilities in the EPA's Enforcement and Compliance History Online (ECHO) database and reflects decline within the industry as dry cleaning facilities have moved to reduce use of petroleum solvents and incorporate newer technologies. The burden for this rule continues to apply only for one-time reporting requirements for new sources. This ICR reduces the number of new sources anticipated and conservatively estimates burden for one new affected facility per year. The overall result is a decrease in burden.

Courtney Kerwin,
Director, Regulatory Support Division.

[FR Doc. 2022-02621 Filed 2-7-22; 8:45 am]

BILLING CODE 6560-50-P